DEPARTMENT OF JUSTICE

Drug Enforcement Administration

Importation of Controlled Substances; Notice of Withdrawal

As set forth in the Federal Register (FR Doc. 00-7870) Vol. 65, No. 62 at page 16963, dated March 30, 2000, Chirex Technology Center, Inc., DBA Chirex Cauldron, 383 Phoenixville Pike, Malvern, Pennsylvania 19355, made application to the Drug Enforcement Administration to be registered as an importer of amphetamine (1100).

Two registered bulk manufacturers of amphetamine requested a hearing to deny the proposed registration of Chirex Technology Center, Inc. Chirex Technology Center, Inc. requested by letter that its application be withdrawn. Therefore, Chirex Technology Center, Inc,'s application to import amphetamine is hereby with drawn.

Dated: September 26, 2000.
John H. King,
Deputy Assistant Administrator, Office of Diversion Control, Drug Enforcement Administration.

[FR Doc. 00-26374 Filed 10-12-00; 8:45 am]

BILLING CODE 4410-09-M